DEPARTMENT OF COMMERCE

International Trade Administration

Export Assistance Center Internet Web Site Form

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before October 31, 2005.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Request for additional information or copies of the information collection instrument and instructions should be directed to: Jason Sproule, U.S. Department of Commerce, Newport Beach U.S. Export Assistance Center, 3300 Irvine Avenue, Suite 305, Newport Beach, CA 92660; Phone Number: (949) 660-1668, and fax number: (949) 660-8039.

SUPPLEMENTARY INFORMATION:

I. Abstract

The Newport Beach U.S. Export Assistance Center, which is a combined effort of the U.S. Department of Commerce, Export-Import Bank, and Small Business Administration provides a comprehensive array of export counseling and trade finance services to small and medium-sized U.S. exporting firms. It proposes the extension of the Office of Management and Budget's authorization for this information collection form to continue the usefulness of its interactive website. In addition, this generic form will be used in its entirety or with minor modifications by all U.S. Export Assistance Centers and the Office of Domestic Operations. The form will ask U.S. exporting firm respondents to provide general background information and identify which services (s) they are interested in.

II. Method of Collection

The form is submitted via Internet, telephone, fax, or e-mail.

III. Data

OMB Number: 0625-0237.

Form Number: ITA-4148P.

Type of Review: Regular Submission.

Affected Public: Business or other for-profit.

Estimated Number of Respondents: 7,000.

Estimated Time Per Response: 5-20 minutes.

Estimated Total Annual Burden Hours: 700 hours.

Estimated Total Annual Costs: The estimated annual cost for this collection is $41,000.00 ($24,000.00 for respondents and $17,000.00 for Federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information techniques or forms of information technology.

Comments submitted in response to this notice will be summarized and/or included in the request for OMB approval of this information collection; they also will become a matter of public record.

Dated: August 25, 2005.
Madeleine Clayton,
Management Analyst, Office of the Chief Information Officer.

[FR Doc. 05-17290 Filed 8-30-05; 8:45 am]

BILLING CODE 3510-FP-P